DEPARTMENT OF HEALTH AND HUMAN SERVICES

Centers for Disease Control and Prevention

[60Day-03-76]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Youth Risk Behavior Survey (YRBS) Methodological Study—New—National Center for Chronic Disease Prevention and Health Promotion (NCCDPHP), Centers for Disease Control and Prevention, (CDC). CDC intends to conduct a methodological study in the Spring of 2004 to assess the effects of setting and mode of survey administration on the reporting of health-risk behaviors among adolescents, and thereby, to provide methodological guidance for future surveys, especially surveys of adolescents. In 2000, the Office of the Assistant Secretary for Planning and Evaluation (ASPE) commissioned five expert papers written on the topic “Examining Substance Abuse Data Collection Methodologies.” The papers focused on the YRBS, the National Survey on Drug Use and Health (NSDUH, formerly the National Household Survey on Drug Abuse, or NHSDA), and Monitoring the Future (MTF). A consensus among the authors was that disparate results across the studies are most likely a product of methodological differences across the surveys. This YRBS Methodological Study is designed to measure the extent to which the prevalence of health-risk behaviors among students varies by whether the survey is administered in schools vs. students' homes (setting), and by whether the survey is administered using paper-and-pencil questionnaire booklets vs. computer-assisted self-interviewing (mode). Approximately 5,376 high school students will be given questionnaires in one of the four setting/mode combinations. Elucidation of the impact of these factors on prevalence will assist in reducing response effects and improving the quality of the YRBS data. There are not costs to respondents.

Respondents | Number of respondents | Number of responses per respondent | Average burden per response (in hrs.) | Total burden (in hrs.)
High school students | 5,376 | 1 | 45/60 | 4,032
School administrators | 104 | 1 | 45/60 | 78
Total |  |  |  | 4,110

Dated: June 9, 2003.
Thomas A. Bartenfeld,
Acting Associate Director for Policy, Planning and Evaluation, Centers for Disease Control and Prevention.

[FR Doc. 03-14911 Filed 6-12-03; 8:45 am]

BILLING CODE 4163-18-P